NATIONAL SCIENCE FOUNDATION

Sunshine Act; President's Committee on the National Medal of Science; Notice of Meeting

In accordance with the Federal Advisory Committee Act (Pub. L. 92-463, as amended), the National Science Foundation announces the following meeting:

Name: President's Committee on the National Medal of Science (1182).

Date and Time: Tuesday, October 25, 2005, 8:30 a.m.-1:30 p.m.

Place: Room 555-II, National Science Foundation, 4201 Wilson Blvd, Arlington, VA.

Type of Meeting: Closed.

Contact Person: Ms. Ann Noonan, Honorary Awards Specialist, Room 1220, National Science Foundation, 4201 Wilson Blvd, Arlington, VA 22230. Telephone: 703-292-8096.

Purpose of Meeting: To provide advice and recommendations to the President in the selection of the 2005 National Medal of Science recipients.

Agenda: To review and evaluate nominations as part of the selection process for awards.

Reason for Closing: The nominations being reviewed include information of a personal nature where disclosure would constitute unwarranted invasions of personal privacy. These matters are exempt under 5 U.S.C. 552b(c)(6) of the Government in the Sunshine Act.

Dated: October 11, 2005.
Susanne Bolton,
Committee Management Officer.

[FR Doc. 05-20648 Filed 10-11-05; 3:47 pm]

BILLING CODE 7555-01-M